GENERAL SERVICES ADMINISTRATION

[Notice-PBS-2020-04; Docket No. 2020-0002; Sequence No. 12]

Revised Notice of Intent/Revised Project Action and Notice of Availability for Land Ports of Entry (LPOE)

AGENCY: Public Buildings Service (PBS), Pacific Rim Division General Services Administration (GSA).

ACTION: Notice.

SUMMARY: The Federal Motor Carrier Safety Administration (FMCSA) and the GSA have partnered to develop a program of projects at a number of Land Ports of Entry (LPOEs) so that FMCSA agents can safely and effectively inspect both commercial truck and bus traffic.

DATES: Due to the COVID-19 pandemic and to ensure the safety of the public, a formal, in-person public meeting will not be held to solicit comments and provide information about the Draft EA.

We will consider all comments that we receive on or before June 30, 2020.

ADDRESSES: The Draft EA can be viewed on the GSA website at http://www.gsa.gov/nepa. Click on NEPA Library then Public Documents. In addition, copies may be obtained by calling or writing to the individual listed in this notice under the FOR FURTHER INFORMATION CONTACT section.

You may submit comments at the public meeting by either of the following methods:

• Electronic Mail: osmahn.kadri@gsa.gov.

• Postal Mail/Commercial Delivery: Send your comment to: Tina Sekula, JMT Inc., 1130 Situs Court, Suite 200, Raleigh, NC 27606.

FOR FURTHER INFORMATION CONTACT:

• Email: Osmahn Kadri at osmahn.kadri@gsa.gov

• Mail: Attn: Osmahn Kadri, NEPA Program Manager, 50 United Nations Plaza, 3345, Mailbox #9, San Francisco, CA 94102.

• Telephone: (415) 522-3617.

• *NOTE* PLEASE DO NOT MAIL COMMENTS VIA THE U.S. POSTAL SERVICE (USPS) TO THE GSA MAILING ADDRESS AT THIS TIME. USPS MAIL CAN BE SENT TO JMT INC AT THE ADDRESS ABOVE.

SUPPLEMENTARY INFORMATION:

GSA intended to prepare an Environmental Impact Statement (EIS) to analyze the potential impacts from the proposed construction of six (6) inspection facilities at five (5) different LPOEs in both California and Arizona. A Notice of Intent (NOI) was published on May 23, 2019 concerning the EIS and scoping meetings. A revised NOI was published on June 21, 2019 to notify interested parties that dates for the scoping meetings changed for the two (2) Arizona Sites. This publication serves as another revised NOI to inform interested parties of a revised project action.

Based on scoping comments received, GSA has modified the proposed action to develop co-located truck inspection facilities within existing state-operated inspection facilities to the extent practicable and develop stand-alone Federal facilities for the proposed bus inspection facilities where necessary. As a result of the revised proposed action, GSA has revised the approach to NEPA documentation. GSA has prepared a separate Draft Environmental Assessment (EA) and will prepare a Finding of No Significant Impact (FONSI), if appropriate, to analyze the potential impacts from the proposed construction of the bus inspection facility at the San Ysidro LPOE in California. Two alternatives were analyzed to include: (1) New “Basic” Facility Buildout; (2) No Build Action. Regarding the proposed truck inspection facilities and other bus inspection facilities previously identified at the other LPOEs, GSA is negotiating agreements with state operated inspection facilities for possible co-located facilities, which will determine what type of NEPA documentation will be prepared for those proposed actions.

GSA is also advising the public that the Draft EA prepared for the construction of a standalone FMCSA Bus Inspection Facility at the San Ysidro LPOE in San Diego, California is available for public comment.

The Draft EA is being prepared to comply with the National Environmental Policy Act (NEPA) of 1969, as amended (42 U.S. Code [U.S.C.] 4321), as implemented by Council on Environmental Quality (CEQ) regulations (40 Code of Federal Regulations [CFR] 1500-1508), and policies of the GSA as the lead federal agency. The EA process provides steps and procedures to evaluate the potential social, economic, and environmental impacts for the construction of the proposed FMCSA Bus Inspection Facility at the San Ysidro LPOE while providing an opportunity for local, state, or federal agencies to provide input and/or comment through scoping, public information meetings, and/or a public hearing. The social, economic, and environmental considerations are evaluated and measured, as defined in the CEQ regulations, by their magnitude of impacts.

The bus inspection station allows for FMCSA to conduct proper inspection of buses entering the United States from Mexico. FMCSA is required to conduct a sufficient number of meaningful vehicle safety inspections and to accommodate vehicles placed out of service as a result of said inspections. The current bus inspection operations at the San Ysidro LPOE lacks the proper infrastructure for bus inspections and is not adequate to maintain regular inspections. Therefore, the LPOE does not address safety needs for the travelling public nor FMCSA staff, nor capacity needs identified in future traffic projections at the LPOE. The lack of dedicated bus inspection infrastructure exposes FMCSA to safety concerns while conducting inspections and is not in conformance with current FMCSA safety standards. GSA proposes to construct a new FMCSA Bus Inspection facility on a federally owned 1.5-acre parcel located north of the existing LPOE

A public scoping meeting on the project was held on June 18, 2019. Comments received during the meeting were considered by GSA in this Draft EA. The finding, which is based on the Draft EA, reflects the GSA's determination that construction of the proposed facility will not have a significant impact on the quality of the human or natural environment.

Jared Bradley,
Director, Portfolio Management Division, Pacific Rim Region, Public Buildings Service.

[FR Doc. 2020-10426 Filed 5-14-20; 8:45 am]

BILLING CODE 6820-YF-P